DEPARTMENT OF TRANSPORTATION

Federal Aviation Administration

Notice of Availability of the Federal Aviation Administration Finding of No Significant Impact and Record of Decision for Establishing the Playas Temporary Military Operations Area, and the Adoption of the United States Air Force, Davis-Monthan Air Force Base Personnel Recovery Training Program Environmental Assessment

AGENCY: Federal Aviation Administration, Department of Transportation.

ACTION: Notice of availability of finding of no significant impact/record of decision.

SUMMARY: The Federal Aviation Administration (FAA) announces its decision to adopt the United States Air Force (USAF) Environmental Assessment (EA) for the Davis-Monthan Air Force Base Personnel Recovery Training Program for the establishment of a Temporary Military Operations Area (TMOA) in Playas, New Mexico. This notice announces that, based on its independent review and evaluation of the EA and supporting documents, the FAA is adopting the EA and issuing a Finding of No Significant Impact (FONSI)/Record of Decision (ROD) for the establishment of the Playas TMOA.

FOR FURTHER INFORMATION CONTACT: Paula Miller, Airspace Policy and Regulations Group, Office of Airspace Services, Federal Aviation Administration, 800 Independence Avenue SW, Washington, DC 20591; telephone: (202) 267-7378.

SUPPLEMENTARY INFORMATION:

Background

A TMOA is needed to support large force personnel recovery training events, known as Red Flag-Rescue, to ensure combat forces have gained experience operating jointly before deploying to theater. The Red Flag-Rescue training events provide the Department of Defense (DoD) personnel recovery forces combat search and rescue missions in a large force training event simulating deployed conditions. The Red Flag-Rescue training events encompass many different types of land-based and airspace exercises over several states. The subject FAA FONSI/ROD is only for the activation of the Playas TMOA over Playas, New Mexico, for a specific exercise within the Red Flag-Rescue.

Implementation

After evaluating the EA, the FAA has issued a FONSI/ROD to establish the Playas TMOA for separate Red Flag-Rescue training events. Each training event is anticipated to last approximately two to three weeks. The TMOA would only be used during a specified timeframe during each Red Flag-Rescue training event with specific times of use announced via Notice to Airmen (NOTAM). The TMOA would only be activated during an approximate two to three week period, biannually, for up to four years. The total activation period would not exceed 45 days. The actual times of use of activation would vary from continuous to day-night windows, scheduled to meet training requirements.

In accordance with Section 102 of the National Environmental Policy Act of 1969 (“NEPA”), the Council on Environmental Quality's (“CEQ”) regulations implementing NEPA (40 CFR parts 1500-1508), and other applicable authorities, including the FAA Order 1050.1F, Environmental Impacts: Policies and Procedures, paragraph 8-2, and FAA Order JO 7400.2M, “Procedures for Handling Airspace Matters,” paragraph 32-2-3, the FAA has conducted an independent review and evaluation of the USAF's EA, dated February 2020, and its supporting documents. As a cooperating agency with responsibility for approving special use airspace (SUA) under 49 U.S.C. 40103(b)(3)(A), the FAA provided subject matter expertise and coordinated with the USAF during the environmental review process.

The Draft EA was provided for public review for 36 days starting on September 20, 2019, and ending on October 26, 2019. Fourteen comments were received on the Draft EA during this time period; however, only one comment received was specific to the FAA's Proposed Action, and it requested clarification of the Proposed Action.

The FONSI/ROD and EA are available upon request by contacting Paula Miller at: Airspace Policy and Regulations Group, Office of Airspace Services, Federal Aviation Administration, 800 Independence Avenue SW, Washington, DC 20591; telephone: (202) 267-7378.

Issued in Des Moines, WA, on March 30, 2020.
Shawn M. Kozica,
Manager, Operations Support Group, Western Service Center.

[FR Doc. 2020-06935 Filed 4-2-20; 8:45 am]

BILLING CODE 4910-13-P